DEPARTMENT OF THE INTERIOR

National Park Service

[N6242; NPS-WASO-NAGPRA-NPS0040529; PPWOCRADN0-PCU00RP14.R50000]

Notice of Inventory Completion: Indiana University, Bloomington, IN

AGENCY: National Park Service, Interior.

ACTION: Notice.

SUMMARY: In accordance with the Native American Graves Protection and Repatriation Act (NAGPRA), Indiana University has completed an inventory of human remains and associated funerary objects and has determined that there is a cultural affiliation between the human remains and associated funerary objects and Indian Tribes or Native Hawaiian organizations in this notice.

DATES: Repatriation of the human remains and associated funerary objects in this notice may occur on or after August 27, 2025.

ADDRESSES: Send written requests for repatriation of the human remains and associated funerary objects in this notice to Dr. Jayne-Leigh Thomas, NAGPRA Executive Director, Indiana University, Student Building 318, 701 E Kirkwood Avenue, Bloomington, IN 47405, email thomajay@iu.edu.

SUPPLEMENTARY INFORMATION: This notice is published as part of the National Park Service's administrative responsibilities under NAGPRA. The determinations in this notice are the sole responsibility of Indiana University and additional information on the determinations in this notice, including the results of consultation, can be found in its inventory or related records. The National Park Service is not responsible for the determinations in this notice.

Abstract of Information Available

Human remains representing, at least, three individuals have been identified in total from the McKinnan site in Pike County, Illinois. There are no AFOs present. There is no collection history aside from that the collection likely came to Indiana University from Gregory Perino.

From the Swartz Mound and Village site in Pike County, Illinois, human remains representing, at least, two individuals have been identified. There are no AFOs present. There is no collection history aside from that the collection likely came to Indiana University from Gregory Perino.

Human remains representing, at least, 71 individuals have been identified from the Lawrence Gay Mound Group in Pike County, Illinois. There are two AFOs present—one lot of shell and one lot of lithics). These materials were excavated by Gregory Perino and Della C. Cook in 1970-1971.

Human remains representing, at least, one individual have been identified from the Schaffner site in Pike County, Illinois. There are no AFOs present. This site was excavated in 1968 by Gregory Perino.

Human remains representing, at least, one individual have been identified from the Stilwell II site in Pike County, Illinois. There are no AFOs present. Gregory Perino conducted salvage work at the site in 1962, documenting intact Early Archaic deposits and this collection likely arrived with other material from Perino.

Human remains representing, at least, 260 individuals have been identified from the Joe Gay Mound Group in Pike County, Illinois. There are seven AFOs present—one lot of lithics, one lot of shell, one lot of faunal bone, one lot of beads, one lot of sandstone, one lot of daub, and one lot of ceramics. These materials were by Gregory Perino and Della Cook in 1970.

Human remains representing, at least, 154 individuals have been identified from the Homer Adams Mound Group in Pike County, Illinois. There are three AFOs present—one lot of ceramics, one lot of charcoal, and one lot of lithics. These materials were excavated by Gregory Perino and Della C. Cook in 1971.

There are no known pesticide contaminants on any of these collections.

Cultural Affiliation

Based on the information available and the results of consultation, cultural affiliation is clearly identified by the information available about the human remains and associated funerary objects described in this notice.

Determinations

Indiana University has determined that:

• The human remains described in this notice represent the physical remains of 492 individuals of Native American ancestry.

• The 12 associated funerary objects described in this notice are reasonably believed to have been placed intentionally with or near individual human remains at the time of death or later as part of the death rite or ceremony.

• There is a connection between the human remains and associated funerary objects described in this notice and the Citizen Potawatomi Nation, Oklahoma; Eastern Shawnee Tribe of Oklahoma; Forest County Potawatomi Community, Wisconsin; Iowa Tribe of Kansas and Nebraska; Kaw Nation, Oklahoma; Match-e-be-nash-she-wish Band of Pottawatomi Indians of Michigan; Miami Tribe of Oklahoma; Omaha Tribe of Nebraska; Otoe-Missouria Tribe of Indians, Oklahoma; Peoria Tribe of Indians of Oklahoma; Pokagon Band of Potawatomi Indians, Michigan and Indiana; Ponca Tribe of Indians of Oklahoma; Ponca Tribe of Nebraska; Prairie Band Potawatomi Nation; Quapaw Nation; Sac & Fox Nation, Oklahoma; Sac & Fox Tribe of the Mississippi in Iowa; Shawnee Tribe; and the Winnebago Tribe of Nebraska.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after August 27, 2025. If competing requests for repatriation are received, Indiana University must determine the most appropriate requestor prior to repatriation. Requests for joint repatriation of the human remains and associated funerary objects are considered a single request and not competing requests. Indiana University is responsible for sending a copy of this notice to the Indian Tribes and Native Hawaiian organizations identified in this notice.

Authority: Native American Graves Protection and Repatriation Act, 25 U.S.C. 3003, and the implementing regulations, 43 CFR 10.10.

Dated: July 1, 2025.
Melanie O'Brien,
Manager, National NAGPRA Program.

[FR Doc. 2025-14150 Filed 7-25-25; 8:45 am]

BILLING CODE 4312-52-P